DEPARTMENT OF TRANSPORTATION

Federal Aviation Administration

14 CFR Part 71

[Docket No. FAA-2016-8839; Airspace Docket No. 16-AGL-19]

Amendment of Class E Airspace for the Following Ohio Towns; Findlay, OH; Ashland, OH; Celina, OH; Circleville, OH; Columbus, OH; Defiance, OH; Hamilton, OH; Lima, OH; and London, OH

AGENCY: Federal Aviation Administration (FAA), DOT.

ACTION: Final rule.

SUMMARY: This action modifies Class E airspace designated as a surface area at Findlay Airport, Findlay, OH; and Class E airspace extending upward from 700 feet above the surface at Ashland County Airport, Ashland, OH; Lakefield Airport, Celina, OH; Pickaway County Memorial Airport, Circleville, OH; Ross County Airport, Chillicothe, OH; Fairfield County Airport, Lancaster, OH; Defiance Memorial Airport, Defiance, OH; Findlay Airport; Bluffton Airport, Findlay, OH; Butler County Airport-Hogan Field, Hamilton, OH; Lima Allen County Airport, Lima, OH; and Madison County Airport, London, OH. Decommissioning of non-directional radio beacons (NDB), cancellation of NDB approaches, and implementation of area navigation (RNAV) procedures have made this action necessary for the safety and management of Instrument Flight Rules (IFR) operations at these airports. This action also updates the geographic coordinates for Port Columbus International Airport; Findlay Airport; Ashland County Airport; Samaritan Hospital Heliport, Ashland, OH; Lakefield Airport; Ross County Airport; Defiance Regional Medical Center Heliport, Defiance, OH; Bluffton Airport; Lima Allen County Airport; and St. Rita's Medical Center Heliport, Lima, OH, to coincide with the FAA's aeronautical database. Also, the names of Samaritan Hospital Heliport (formerly Samaritian Regional Health System), Defiance Regional Medical Center Heliport (formerly Defiance Hospital), and Butler County Regional Airport-Hogan Field (formerly Butler County Regional Airport) are being updated to coincide with the FAA's aeronautical database.

DATES: Effective 0901 UTC, June 22, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace designated as a surface area at Findlay Airport, Findlay, OH; and Class E airspace extending upward from 700 feet above the surface at Ashland County Airport, Ashland, OH; Lakefield Airport, Celina, OH; Pickaway County Memorial Airport, Circleville, OH; Ross County Airport, Chillicothe, OH; Fairfield County Airport, Lancaster, OH; Defiance Memorial Airport, Defiance, OH; Findlay Airport; Bluffton Airport, Findlay, OH; Butler County Airport-Hogan Field, Hamilton, OH; Lima Allen County Airport, Lima, OH; and Madison County Airport, London, OH.

History

On September 27, 2016, the FAA published in the Federal Register a notice of proposed rulemaking (NPRM), (81 FR 66221) Docket No. FAA-2016-8839, to modify Class E airspace designated as a surface area at Findlay Airport, Findlay, OH; and Class E airspace extending upward from 700 feet above the surface at Ashland County Airport, Ashland, OH; Lakefield Airport, Celina, OH; Pickaway County Memorial Airport, Circleville, OH; Ross County Airport, Chillicothe, OH; Fairfield County Airport, Lancaster, OH; Defiance Memorial Airport, Defiance, OH; Findlay Airport; Bluffton Airport, Findlay, OH; Butler County Airport-Hogan Field, Hamilton, OH; Lima Allen County Airport, Lima, OH; and Madison County Airport, London, OH. Interested parties were invited to participate in this rulemaking effort by submitting written comments on the proposal to the FAA. No comments were received.

Subsequent to publication, the FAA discovered a typographical error in the geographic coordinates for Yellow Bud VOR (lat. 39°31′2637″ N. vice lat. 39°31′37″ N.) listed in the boundary description for Circleville, OH. This error has been corrected in this action.

Class E airspace designations are published in paragraph 6002 and 6005, respectively, of FAA Order 7400.11A, dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies:

Class E airspace designated as a surface area at Findlay Airport, Findlay, OH, by removing the segments extending from the 4.3-mile radius 7.4 miles south and northeast of the airport, and updating the geographic coordinates of the airport to coincide with the FAA's aeronautical database.

Class E airspace extending upward from 700 feet above the surface:

By updating the geographic coordinates of Ashland County Airport and noting the name change of Samaritan Hospital Heliport (formerly Samaritian Regional Health System), Ashland, OH, to coincide with the FAA's aeronautical database;

Within a 6.4-mile radius (reduced from a 7-mile radius) of Lakefield Airport, Celina, OH, and updates the geographic coordinates of the airport to coincide with the FAA's aeronautical database;

Within a 6.4-mile radius (reduced from a 10-mile radius) of Pickaway County Memorial Airport, Circleville, OH, with an extension from the 6.4-mile radius to 10.5 miles north of the airport, and within a 6.5-mile radius (reduced from a 9.1-mile radius) of Ross County Airport, Chillicothe, OH, and updates the geographic coordinates of the Ross County Airport to coincide with the FAA's aeronautical database;

By updating the geographic coordinates of Port Columbus International Airport, Columbus, OH, and amending the radius of the Fairfield County Airport, Lancaster, OH, to within a 7.0-mile radius (increased from a 6.4-mile radius);

Within a 6.4-mile radius (reduced from a 7-mile radius) of Defiance Memorial Airport, Defiance, OH, and updates the geographic coordinates and name of Defiance Regional Medical Center Heliport (formerly Defiance Hospital), Defiance, OH, to coincide with the FAA's aeronautical database;

Within a 6.8-mile radius (reduced from a 7.4-mile radius) of Findlay Airport, Findlay, OH, and within a 7.2-mile radius (increased from a 6.6-mile radius) of Bluffton Airport, Findlay, OH, and updates the geographic coordinates of these airports to coincide with the FAA's aeronautical database;

Within a 6.9-mile radius (increased from a 6.6-mile radius) of Butler County Regional Airport-Hogan Field, Hamilton, OH, and updates the name of the airport (formerly Butler County Regional Airport) to coincide with the FAA's aeronautical database;

By removing the Allen County VOR from the boundary description of Lima Allen County Airport, Lima, OH, and updating the name of St. Rita's Medical Center Heliport (formerly Saint Rita's Medical Center), Lima, OH, and updating the geographic and point in space coordinates of these airports to coincide with the FAA's aeronautical database;

And by removing the segment extending from the 6.4-mile radius 7.4 miles west of Madison County Airport, London, OH.

Airspace reconfiguration is necessary due to the decommissioning of NDBs, cancellation of NDB approaches, and implementation of RNAV procedures at the above airports for the safety and management of the standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

AGL OH E2 Findlay, OH [Amended]

Findlay Airport, OH

(Lat. 41°00′43″ N., long. 83°40′07″ W.)

Lutz Airport

(Lat. 40°57′42″ N., long. 83°35′43″ W.)

Within a 4.3-mile radius of the Findlay Airport excluding that portion within a 1-mile radius of the Lutz Airport.

* * * * *

Paragraph 6005 Class E Airspace Areas Extending Upward From 700 Feet or More Above the Surface of the Earth.

* * * * *

AGL OH E5 Ashland, OH [Amended]

Ashland County Airport, OH

(Lat. 40°54′11″ N., long. 82°15′20″ W.)

Samaritan Hospital Heliport, OH, Point in Space Coordinates

(Lat. 40°51′34″ N., long. 82°18′30″ W.)

That airspace extending upward from 700 feet above the surface within a 6.3-mile radius of Ashland County Airport, and within a 6-mile radius of the Point in Space serving Samaritan Hospital Heliport, excluding that airspace which lies within the Mansfield, OH, Class E airspace area.

* * * * *

AGL OH E5 Celina, OH [Amended]

Lakefield Airport, OH

(Lat. 40°29′03″ N., long. 84°33′30″ W.)

That airspace extending upward from 700 feet above the surface within a 6.4-mile radius of Lakefield Airport, excluding that airspace within the Wapakoneta, OH, Class E airspace area.

AGL OH E5 Circleville, OH [Amended]

Circleville, Pickaway County Memorial Airport, OH

(Lat. 39°30′58″ N., long. 82°58′56″ W.)

Chillicothe, Ross County Airport, OH

(Lat. 39°26′26″ N., long. 83°01′23″ W.)

Yellow Bud VOR

(Lat. 39°31′37″ N., long. 82°58′41″ W.)

That airspace extending upward from 700 feet above the surface within a 6.4-mile radius of Pickaway County Memorial Airport, and within 2.9 miles either side of the 345° radial from the Yellow Bud VOR extending from the 6.4-mile radius to 10.5 miles north of the airport, and within a 6.5-mile radius of the Ross County Airport, excluding that airspace within the Waverly, OH, Class E Airspace area.

* * * * *

AGL OH E5 Columbus, OH [Amended]

Columbus, Port Columbus International Airport, OH

(Lat. 39°59′49″ N., long. 82°53′32″ W.)

Columbus, Rickenbacker International Airport, OH

(Lat. 39°48′50″ N., long. 82°55′40″ W.)

Columbus, Ohio State University Airport, OH

(Lat. 40°04′47″ N., long. 83°04′23″ W.)

Columbus, Bolton Field Airport, OH

(Lat. 39°54′04″ N., long. 83°08′13″ W.)

Columbus, Darby Dan Airport, OH

(Lat. 39°56′31″ N., long. 83°12′18″ W.)

Lancaster, Fairfield County Airport, OH

(Lat. 39°45′20″ N., long. 82°39′26″ W.)

That airspace extending upward from 700 feet above the surface within a 7-mile radius of Port Columbus International Airport, and within 3.3 miles either side of the 094° bearing from Port Columbus International Airport extending from the 7-mile radius to 12.1 miles east of the airport, and within a 7-mile radius of Rickenbacker International Airport, and within 4 miles either side of the 045° bearing from Rickenbacker International Airport extending from the 7-mile radius to 12.5 miles northeast of the airport, and within a 6.5-mile radius of Ohio State University Airport, and within a 7.4-mile radius of Bolton Field Airport, and within a 7-mile radius of Fairfield County Airport, and within a 6.5-mile radius of Darby Dan Airport, excluding that airspace within the London, OH, Class E airspace area.

* * * * *

AGL OH E5 Defiance, OH [Amended]

Defiance Memorial Airport, OH

(Lat. 41°20′15″ N., long. 84°25′44″ W.)

Defiance Regional Medical Center Heliport, OH, Point in Space Coordinates

(Lat. 41°17′53″ N., long. 84°22′40″ W.)

That airspace extending upward from 700 feet above the surface within a 6.4-mile radius of Defiance Memorial Airport, and within a 6-mile radius of the Point in Space serving Defiance Regional Medical Center Heliport.

* * * * *

AGL OH E5 Findlay, OH [Amended]

Findlay Airport, OH

(Lat. 41°00′43″ N., long. 83°40′07″ W.)

Bluffton Airport, OH

(Lat. 40°53′08″ N., long. 83°52′07″ W.)

That airspace extending upward from 700 feet above the surface within a 6.8-mile radius of Findlay Airport and within a 7.2-mile radius of Bluffton Airport.

* * * * *

AGL OH E5 Hamilton, OH [Amended]

Butler County Regional Airport-Hogan Field, OH

(Lat. 39°21′50″ N., long. 84°31′19″ W.)

That airspace extending upward from 700 feet above the surface within a 6.9-mile radius of Butler County Regional Airport-Hogan Field.

* * * * *

AGL OH E5 Lima, OH [Amended]

Lima Allen County Airport, OH

(Lat. 40°42′27″ N., long. 84°01′37″ W.)

St. Rita's Medical Center Heliport, OH, Point in Space Coordinates

(Lat. 40°44′26″ N., long. 84°07′06″ W.)

That airspace extending upward from 700 feet above the surface within a 6.6-mile radius of Lima Allen County Airport, and within a 6-mile radius of the Point in Space serving St. Rita's Medical Center Heliport, excluding the airspace within the Findlay, OH, Class E airspace area.

AGL OH E5 London, OH [Amended]

Madison County Airport, OH

(Lat. 39°55′58″ N., long. 83°27′43″ W.)

That airspace extending upward from 700 feet above the surface within a 6.4-mile radius of Madison County Airport.

Issued in Fort Worth, Texas, on February 22, 2017.
Walter Tweedy,
Acting Manager, Operations Support Group, ATO Central Service Center.

[FR Doc. 2017-04182 Filed 3-6-17; 8:45 am]

BILLING CODE 4910-13-P